DEPARTMENT OF TRANSPORTATION

Federal Aviation Administration

[Docket No: FAA-2008-1208]

Helicopter Emergency Medical Services Operations

AGENCY: Federal Aviation Administration (FAA), DOT.

ACTION: Notice of availability.

SUMMARY: This notice announces the availability of and requests comments on revisions to Operations Specification A021, pertaining to Helicopter Emergency Medical Services (HEMS) operations, and Operation Specification A050, pertaining to Helicopter Night Vision Goggle Operations (HNVGO).

DATES: We must receive your comments by December 15, 2008.

ADDRESSES: You may send comments identified by Docket Number FAA-2008-1208 using the following method:

• Federal eRulemaking Portal: Go to http://www.regulations.gov and follow the on-line instructions for sending your comments electronically.

FOR FURTHER INFORMATION CONTACT: For technical questions regarding the A021 and A050 Operations Specifications revisions, contact: Larry Buehler, 135 Air Carrier Operations Branch, AFS-250, Federal Aviation Administration, 800 Independence Avenue, SW., Washington, DC 20591; telephone (202) 267-8166; e-mail larry.buehler@faa.gov. For legal questions concerning this notice, contact: Dean Griffith, FAA Office of the Chief Counsel, AGC-220, 800 Independence Avenue, SW., Washington, DC 20591; telephone (202) 267-3073; e-mail dean.griffith@faa.gov.

SUPPLEMENTARY INFORMATION:

Comments Invited

We invite interested people to comment on the revised Operations Specification A021, pertaining to HEMS operations, and Operation Specification A050, pertaining to HNVGO by sending written data, views, or arguments. You should include the Federal docket number FAA-2008-1208 in your comments. We will consider all communications received by the closing date for comments.

Availability of Document

The revised Operations Specifications A021 (HEMS) and A050 (HNVGO) can be found and downloaded from the Internet at the following sites:

• FAA Web site: http://www.faa.gov/about/office_org/headquarters_offices/avs/offices/afs/afs200/branches/afs250/

• Federal eRulemaking Portal: Go to http://www.regulations.gov and search for the documents using the Federal docket number FAA-2008-1208.

Discussion

The FAA has determined that safety in air commerce and the public interest requires additional hazard mitigation for HEMS operations, and therefore has revised Operations Specifications A021 and A050 pursuant to 14 CFR 119.51.

The A021 revisions specify that if a flight, or sequence of flights, includes a part 135 segment then all visual flight rules (VFR) segments of the flight must be conducted within the weather minimums and minimum safe cruise altitude determined in pre-flight planning. Specifically, A021 requires pilots to identify a minimum safe cruise altitude during pre-flight planning by identifying and documenting obstructions and terrain along the planned flight path. HEMS pilots must also determine the minimum required ceiling and visibility to conduct the flight using the revised weather minimums contained in A021.

Revised Operations Specification A021 also permits HEMS instrument flight rules (IFR) operations at landing areas without weather reporting if an approved weather reporting source is located within 15 nautical miles of the landing area or if an area forecast is available.

Revised Operations Specification A050 changes weather minimums for HNVGO conducted in Class G Airspace to be consistent with changes made to the Class G Airspace minimums in A021.

The full text of the changes to Operations Specifications A021 and A050 are available on the FAA Web site and on http://www.regulations.gov as discussed above.

Issued in Washington, DC, on November 10, 2008.
Greg Kirkland,
Air Transportation Division, Acting Manager AFS-200.

[FR Doc. E8-27137 Filed 11-13-08; 8:45 am]

BILLING CODE 4910-13-P